DEPARTMENT OF THE INTERIOR

National Park Service

[NPS-WASO-NAGPRA-NPS0040080; PPWOCRADN0-PCU00RP14.R50000]

Notice of Inventory Completion: University of Michigan, Ann Arbor, MI

AGENCY: National Park Service, Interior.

ACTION: Notice.

SUMMARY: In accordance with the Native American Graves Protection and Repatriation Act (NAGPRA), the University of Michigan has completed an inventory of human remains (hereinafter referred to as “Ancestral remains” or “Ancestors”) and associated funerary objects and has determined that there is a cultural affiliation between the Ancestral remains and associated funerary objects and Indian Tribes or Native Hawaiian organizations in this notice.

DATES: Repatriation of the Ancestral remains and associated funerary objects in this notice may occur on or after June 9, 2025.

ADDRESSES: Dr. Ben Secunda, NAGPRA Office Managing Director, University of Michigan, Office of Research, Suite G269, Lane Hall, Ann Arbor, MI 48109-1274, telephone (734) 615-8936, email bsecunda@umich.edu.

SUPPLEMENTARY INFORMATION: This notice is published as part of the National Park Service's administrative responsibilities under NAGPRA. The determinations in this notice are the sole responsibility of the University of Michigan, and additional information on the determinations in this notice, including the results of consultation, can be found in its inventory or related records. The National Park Service is not responsible for the determinations in this notice.

Abstract of Information Available

Ancestral remains representing, at least, seven individuals have been identified. The 17 associated funerary objects are one lot of Stiegel glass bottle with metal cap and painted decoration; one lot of pewter vessel fragments; one lot of two brass vessels; one lot of brass ring (from a vessel); one lot of metal nozzle; one lot of Florentine double-barred cross; one lot of chert scraper; one lot of unworked animal bone fragments; one lot of unworked animal bone fragments; one lot of historic ceramic pipe stem/bowl fragment; one lot of brass bracelet; three lots of earthenware sherds; one lot of lithic flake; one lot of bifacially worked stone; and one lot of unworked shell fragment. On July 23rd, 1923, the Ancestral remains and objects were found by workmen on the property of Captain Smith during excavations for a cellar and donated to University of Michigan Museum of Anthropological Archaeology by one of the workmen. The site is multicomponent without continuous occupation, dating to the Late Historic period A.D. 1772-1820 and Late Late Woodland period A.D. 1200-1400, based on diagnostic artefacts. The Ancestors and associated funerary objects were removed from the Harsen's Island site (20SC2) in St. Clair Co, MI. The Ancestors are one perinate, one child 2-4 years, one juvenile, one adolescent 16-19 years, one adult 22-45 years female, one adult 40+ years male, and one cremated adult.

Ancestral remains representing, at least, 18 individuals have been identified. The 10 associated funerary objects are one lot of unworked antler fragment; one lot of lithic biface; one lot of chert flakes; one lot of unworked quartz pebbles; one lot of fire cracked rock; one lot of cremated and non-cremated faunal bone and shell fragments; two lots of earthenware sherds; one lot of debitage; and one lot of unworked animal bone. In 1963 the Ancestors and associated funerary objects were inadvertently uncovered during sand removal for road construction in Saint Clair County, Michigan, from the Hunter Site (20SC30). At the request of the property owner, the site was then salvage excavated by archaeologists from the University of Michigan Museum of Anthropological Archaeology. Dating for the site is to the Late Woodland A.D. 800-1400, based on diagnostic artifacts from the site. The Ancestors are an adult 30-55 years with osteoarthritis; an infant; an adult 40+ years possible male with osteoarthritis; an adolescent 16-20 years with a possible underlying infection; a child 6-10 years; a child 4-6 years; an adolescent 13-15 years; a child 7.5-12.5 years with a possible underlying infection; an adolescent 14-15 years; a cremated adult 40+ years; a cremated adult; an adult 45+ years; an adult 24-35 years female; an adult; an adult male; an adult possible male with a possible healed fracture, porosity on pelvis, and osteoarthritis; an adult 30+ years possible female with porosity on pelvis; an adolescent 11-17 years with porosity on femora.

The University of Michigan has no record of, nor do its officials have any knowledge of, any treatment of items with pesticides, preservatives, or other substances that represent a potential hazard to the collection(s) or to persons handling the collection(s).

Cultural Affiliation

Based on the information available and the results of consultation, cultural affiliation is reasonably identified by the geographical location or acquisition history of the Ancestral remains and associated funerary objects described in this notice.

Determinations

The University of Michigan has determined that:

• The Ancestral remains described in this notice represent the physical remains of 25 individuals of Native American ancestry.

• The 27 objects described in this notice are reasonably believed to have been placed intentionally with or near individual Ancestral remains at the time of death or later as part of the death rite or ceremony.

• There is a connection between the Ancestral remains and associated funerary objects described in this notice and the Absentee-Shawnee Tribe of Indians of Oklahoma; Bad River Band of the Lake Superior Tribe of Chippewa Indians of the Bad River Reservation, Wisconsin; Bay Mills Indian Community, Michigan; Chippewa Cree Indians of the Rocky Boy's Reservation, Montana; Citizen Potawatomi Nation, Oklahoma; Delaware Nation, Oklahoma; Delaware Tribe of Indians; Eastern Shawnee Tribe of Oklahoma; Forest County Potawatomi Community, Wisconsin; Grand Traverse Band of Ottawa and Chippewa Indians, Michigan; Hannahville Indian Community, Michigan; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Shell Tribe of Chippewa Indians of Montana; Little Traverse Bay Bands of Odawa Indians, Michigan; Match-e-be-nash-she-wish Band of Pottawatomi Indians of Michigan; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan; Ottawa Tribe of Oklahoma; Peoria Tribe of Indians of Oklahoma; Pokagon Band of Potawatomi Indians, Michigan and Indiana; Prairie Band Potawatomi Nation; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Seneca Nation of Indians; Seneca-Cayuga Nation; Shawnee Tribe; Sokaogon Chippewa Community, Wisconsin; St. Croix Chippewa Indians of Wisconsin; Tonawanda Band of Seneca; Turtle Mountain Band of Chippewa Indians of North Dakota; and the Wyandotte Nation.

Requests for Repatriation

Written requests for repatriation of the Ancestral remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the Ancestral remains and associated funerary objects described in this notice to a requestor may occur on or after June 9, 2025. If competing requests for repatriation are received, the University of Michigan must determine the most appropriate requestor prior to repatriation. Requests for joint repatriation of the Ancestral remains and associated funerary objects are considered a single request and not competing requests. The University of Michigan is responsible for sending a copy of this notice to the Indian Tribes and Native Hawaiian organizations identified in this notice.

Authority: Native American Graves Protection and Repatriation Act, 25 U.S.C. 3003, and the implementing regulations, 43 CFR 10.10.

Dated: April 22, 2025.
Melanie O'Brien,
Manager, National NAGPRA Program.

[FR Doc. 2025-08030 Filed 5-7-25; 8:45 am]

BILLING CODE 4312-52-P